DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates and Times: November 12, 2009, 3 p.m.-5:15 p.m.; November 13, 2009, 8:30 a.m.-4 p.m.; and November 14, 2009, 8:30 a.m.-1 p.m.

Place: Hilton Washington DC/Rockville Executive Meeting Center, 1750 Rockville Pike, Rockville, MD 20852. Phone: 301-468-1100.

Status: The meeting will be open to the public.

Agenda: The Council will be convening in Rockville, Maryland, to hear updates from the Agency and the Bureau of Clinician Recruitment and Service, discuss recruitment strategies for the NHSC and address current workforce issues.

For Further Information Contact: CDR Albert Perrine, Bureau of Clinician Recruitment and Service, Health Resources and Services Administration, Parklawn Building, Room 8A-46, 5600 Fishers Lane, Rockville, MD 20857; e-mail: aperrine@hrsa.gov; telephone: 301-443-4543.

Dated: October 2, 2009.
Alexandra Huttinger,
Director, Division of Policy Review and Coordination.

[FR Doc. E9-24394 Filed 10-8-09; 8:45 am]

BILLING CODE 4165-15-P